DEPARTMENT OF COMMERCE

International Trade Administration

[A-557-813]

Polyethylene Retail Carrier Bags from Malaysia: Final Results of Antidumping Duty Administrative Review

AGENCY: Import Administration, International Trade Administration, Department of Commerce.

SUMMARY: On May 10, 2007, the Department of Commerce published the preliminary results of the administrative review of the antidumping duty order on polyethylene retail carrier bags (PRCBs) from Malaysia. The review covers exports of this merchandise to the United States by Euro Plastics Malaysia Sdn. Bhd. (Euro Plastics) for the period of review August 1, 2005, through July 31, 2006. We gave interested parties an opportunity to comment on the preliminary results. Based on our analysis of the comments and the revised cost information we received from Euro Plastics, we have made changes in the margin calculation for the final results of this review. The final weighted-average margin is listed below in the “Final Results of Review” section of this notice.

EFFECTIVE DATE: August 9, 2007.

FOR FURTHER INFORMATION CONTACT: Yang Jin Chun at (202) 482-5760 or Richard Rimlinger at (202) 482-4477, AD/CVD Operations, Office 5, Import Administration, International Trade Administration, U.S. Department of Commerce, 14th Street and Constitution Avenue, NW, Washington, DC 20230.

SUPPLEMENTARY INFORMATION:

Background

On May 10, 2007, the Department of Commerce (the Department) published the preliminary results of review and invited parties to comment. See Polyethylene Retail Carrier Bags from Malaysia: Preliminary Results of Antidumping Duty Administrative Review, 72 FR 26600 (May 10, 2007) (Preliminary Results). On June 11, 2007, Euro Plastics filed a case brief in which the company alleged two ministerial errors in the calculation. The petitioners¹ did not file a case or rebuttal brief.

¹ The Polyethylene Retail Carrier Bag Committee and its individual members, Hilex Poly Co., LLC, and Superbag Corporation.

Scope of the Order

The merchandise subject to this antidumping duty order is PRCBs which may be referred to as t-shirt sacks, merchandise bags, grocery bags, or checkout bags. The subject merchandise is defined as non-sealable sacks and bags with handles (including drawstrings), without zippers or integral extruded closures, with or without gussets, with or without printing, of polyethylene film having a thickness no greater than 0.035 inch (0.889 mm) and no less than 0.00035 inch (0.00889 mm), and with no length or width shorter than 6 inches (15.24 cm) or longer than 40 inches (101.6 cm). The depth of the bag may be shorter than 6 inches (15.24 cm) but not longer than 40 inches (101.6 cm).

PRCBs are typically provided without any consumer packaging and free of charge by retail establishments, e.g., grocery, drug, convenience, department, specialty retail, discount stores, and restaurants, to their customers to package and carry their purchased products. The scope of the order excludes (1) polyethylene bags that are not printed with logos or store names and that are closeable with drawstrings made of polyethylene film and (2) polyethylene bags that are packed in consumer packaging with printing that refers to specific end-uses other than packaging and carrying merchandise from retail establishments, e.g., garbage bags, lawn bags, trash-can liners.

Imports of the subject merchandise are currently classifiable under statistical category 3923.21.0085 of the Harmonized Tariff Schedule of the United States (HTSUS). This subheading also covers products that are outside the scope of the order. Furthermore, although the HTSUS subheading is provided for convenience and customs purposes, the written description of the scope of this order is dispositive.

Sales Below Cost in the Home Market

The Department conducted an investigation to determine whether Euro Plastics made home-market sales at prices below the cost of production. See Preliminary Results, 72 FR at 26601. As a result of its investigation, the Department disregarded certain below-cost home-market sales for the preliminary results. As discussed below, Euro Plastics has submitted a more recent financial statement since we published the Preliminary Results. The Department has incorporated this financial statement into its below-cost analysis and continues to find that Euro Plastics made sales below cost during the period of review. Therefore, in accordance with section 773(b)(1) of the Tariff Act of 1930, as amended (the Act), the Department has disregarded certain below-cost home-market sales for these final results.

Changes Since the Preliminary Results

For the preliminary results, we used Euro Plastics's cost data based on its audited 2005 financial statement because its audited 2006 financial statement was not available. Because the period of review covers five months in 2005 and seven months in 2006, we stated our intent to use Euro Plastics's cost data based on its audited 2006 financial statement once the audited 2006 financial statement became available. See Preliminary Results, 72 FR at 26601-02. On June 4, 2007, Euro Plastics submitted its general and administrative expense rate and net interest expense rate based on its audited 2006 financial statement. See Euro Plastics's June 4, 2007, supplemental cost information, Exhibits 3 and 4. We used Euro Plastics's revised cost data to re-calculate its general and administrative expense and net interest expense.

In its case brief, Euro Plastics identified two clerical errors. We agree with Euro Plastics that we made two inadvertent computer-code errors in the preliminary antidumping-duty margin calculation for Euro Plastics and have corrected them for the final results. For more details, see the Euro Plastics final analysis memorandum dated August 2, 2007.

Final Results of Review

As a result of our review, we determine that a margin of 0.00 percent exists for Euro Plastics for the period of review August 1, 2005, through July 31, 2006.

Assessment Rates

The Department shall determine, and U.S. Customs and Border Protection (CBP) shall assess, antidumping duties on all appropriate entries. In accordance with 19 CFR 351.212(b)(1), we will issue importer-specific assessment instructions for entries of subject merchandise during the period of review. The Department will issue appropriate assessment instructions directly to CBP 15 days after publication of the final results of review. See also section 751(a)(2)(C) of the Act.

The Department clarified its “automatic assessment” regulation on May 6, 2003 (68 FR 23954). This clarification will apply to entries of subject merchandise during the period of review produced by Euro Plastics for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash-Deposit Requirements

The following deposit requirements will be effective upon publication of this notice of final results of administrative review for all shipments of PRCBs entered, or withdrawn from warehouse, for consumption on or after the publication date of the final results, as provided by section 751(a)(2)(C) of the Act: (1) the cash-deposit rate for Euro Plastics will be 0.00 percent; (2) for previously investigated companies not listed above, the cash-deposit rate will continue to be the company-specific rate published in the Notice of Final Determination of Sales at Less Than Fair Value: Polyethylene Retail Carrier Bags From Malaysia, 69 FR 34128, 34129 (June 18, 2004) (Final Determination); (3) if the exporter is not a firm covered in this review or the less-than-fair-value investigation but the manufacturer is, the cash-deposit rate will be the rate established for the most recent period for the manufacturer of the merchandise; (4) if neither the exporter nor the manufacturer has its own rate, the cash-deposit rate will be 84.94 percent, the “all others” rate for this proceeding published in the Final Determination. Id. These deposit requirements shall remain in effect until further notice.

Notification to Importers

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

Notification Regarding APOs

This notice also serves as a reminder to parties subject to administrative protective orders (APO) of their responsibility concerning the disposition of proprietary information disclosed under APO as explained in the APO itself. See also 19 CFR 351.305(a)(3). Timely written notification of the return/destruction of APO materials or conversion to judicial protective order is hereby requested. Failure to comply with the regulations and terms of an APO is a sanctionable violation.

We are publishing these final results of administrative review and notice in accordance with sections 751(a)(1) and 777(i)(1) of the Act.

Dated: August 2, 2007.
David M. Spooner,
Assistant Secretary for Import Administration.

[FR Doc. E7-15570 Filed 8-8-07; 8:45 am]

BILLING CODE 3510-DS-S